Title 3—

The President

Proclamation 9500 of September 23, 2016

National Hunting and Fishing Day, 2016

By the President of the United States of America

A Proclamation

Hunting and fishing have endured as cherished traditions for generations. Whether for sport, sustenance, or both, these activities provide opportunities for Americans to connect with those around them—from tribal elders sharing sacred practices to parents spending time outdoors with their children. On this day, as we celebrate America's hunters and fishers for the ways in which they have strengthened our communities, we also honor their call to serve as good stewards of our lands and waters.

Anglers and hunters were some of the earliest conservation leaders, and they remain key partners in safeguarding the important recreational opportunities provided by our unparalleled natural spaces. Caring for our environment is critical for supporting hunting and fishing, and today we recognize the growing urgency of conserving our Nation's lands, waters, and ecosystems so that more Americans can enjoy all they have to offer. That is why I continue to call on the Congress to permanently fund the Land and Water Conservation Fund, which has helped create new opportunities for hunting and fishing.

Outdoor areas across America are renowned for their beauty and for the wealth of recreational activities they support. To secure this legacy, my Administration has protected more acres of public lands and waters than any other in our Nation's history—and this past summer, I established the Katahdin Woods and Waters National Monument, which preserves access to hunting. And at national wildlife refuges, in forests, and on public and private lands throughout our country, we have expanded opportunities for Americans to hunt, fish, and reconnect with nature.

Hunting and fishing strengthen local economies, provide sustenance, and help Americans experience the outdoors. By enriching our communities and bringing people together, hunters and anglers have carried forward traditions dating back to long before our Nation's founding. On National Hunting and Fishing Day, we recognize the majestic landscapes that make these activities possible for Americans around our country. As we acknowledge the important cultural heritage surrounding hunting and fishing, let us vow to protect our Nation's remarkable outdoor spaces for generations to come.

NOW, THEREFORE, I, BARACK OBAMA, President of the United States of America, by virtue of the authority vested in me by the Constitution and the laws of the United States, do hereby proclaim September 24, 2016, as National Hunting and Fishing Day. I invite all Americans to observe this day with appropriate activities in our great outdoors.

IN WITNESS WHEREOF, I have hereunto set my hand this twenty-third day of September, in the year of our Lord two thousand sixteen, and of the Independence of the United States of America the two hundred and forty-first.

[FR Doc. 2016-23631

Filed 9-27-16; 11:15 am]

Billing code 3295-F6-P